DEPARTMENT OF THE INTERIOR

Bureau of Indian Affairs

[190A2100DD/AAKC001030/A0A501010.999900253G]

Indian Gaming; Approval of Tribal-State Class III Gaming Compact in the State of Louisiana

AGENCY: Bureau of Indian Affairs, Interior.

ACTION: Notice.

SUMMARY: The State of Louisiana entered into a compact with the Tunica-Biloxi Indian Tribe governing certain forms of class III gaming; this notice announces the approval of the Tribal-State Compact for the Conduct of Class III Gaming between the Tunica-Biloxi Indian Tribe of Louisiana and the State of Louisiana (Compact).

DATES: The Compact takes effect on December 27, 2019.

FOR FURTHER INFORMATION CONTACT: Ms. Paula L. Hart, Director, Office of Indian Gaming, Office of the Assistant Secretary—Indian Affairs, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in class III gaming activities on Indian lands. As required by IGRA and 25 CFR 293.4, all compacts and amendments are subject to review and approval by the Secretary. The Compact requires licensing of non-gaming vendors receiving in excess of $500,000 annually, authorizes sports betting, pari-mutuel wagering and fantasy sports betting that are permitted in the State of Louisiana. The initial term of the Compact is 7 years, with automatic extensions in 1 year increments unless either party provides a notice of non-renewal.

Dated: December 12, 2019.
Tara Sweeney,
Assistant Secretary—Indian Affairs.

[FR Doc. 2019-27987 Filed 12-26-19; 8:45 am]

BILLING CODE 4337-15-P